DEPARTMENT OF THE TREASURY

Alcohol and Tobacco Tax and Trade Bureau

27 CFR Part 9

[Notice No. 35; Re: Notice No. 29]

RIN 1513-AA72

Proposed Realignment of the Santa Lucia Highlands and Arroyo Seco Viticultural Areas (2003R-083P); Comment Period Extension

AGENCY: Alcohol and Tobacco Tax and Trade Bureau, Treasury.

ACTION: Notice of proposed rulemaking; comment period extension.

SUMMARY: In response to an industry request, the Alcohol and Tobacco Tax and Trade Bureau extends the comment period for Notice No. 29, Proposed Realignment of the Santa Lucia Highlands and Arroyo Seco Viticultural Areas, a notice of proposed rulemaking published in the Federal Register on January 25, 2005, for an additional 60 days.

DATES: We must receive written comments regarding Notice No. 29 on or before May 25, 2005.

ADDRESSES: You may send comments to any of the following addresses:

• Chief, Regulations and Procedures Division, Alcohol and Tobacco Tax and Trade Bureau, Attn: Notice No. 29, P.O. Box 14412, Washington, DC 20044-4412.

• (202) 927-8525 (facsimile).

• nprm@ttb.gov (e-mail).

• http://www.ttb.gov/alcohol/rules/index.htm. An online comment form is posted with this notice on our Web site.

• http://www.regulations.gov (Federal e-rulemaking portal; follow instructions for submitting comments).

You may view copies of this extension notice, Notice No. 29, the petition, the appropriate maps, and any comments we receive on Notice No. 29 by appointment at the TTB Library, 1310 G Street, NW., Washington, DC 20220. To make an appointment, call (202) 927-2400. You may also access copies of this extension notice, Notice No. 29, and the related comments online at http://www.ttb.gov/alcohol/rules/index.htm.

FOR FURTHER INFORMATION CONTACT: N.A. Sutton, Program Manager, Regulations and Procedures Division, Alcohol and Tobacco Tax and Trade Bureau, 925 Lakeville St., #158, Petaluma, CA 94952; telephone (415) 271-1254.

SUPPLEMENTARY INFORMATION: Paul Thorpe, on behalf of E.&J. Gallo Winery, submitted a petition to TTB requesting the realignment of a portion of the common boundary between the established Santa Lucia Highlands viticultural area (27 CFR 9.139) and the established Arroyo Seco viticultural area (27 CFR 9.59). Both viticultural areas are within the Monterey viticultural area (27 CFR 9.98) in Monterey County, California, which is in turn within the larger multi-county Central Coast viticultural area (27 CFR 9.75). The proposed realignment would transfer about 200 acres from the Arroyo Seco viticultural area to the Santa Lucia Highlands area.

In Notice No. 29, published in the Federal Register (70 FR 3333) on Monday, January 24, 2005, we described the petitioner's reasons for the proposed realignment and requested comments on that proposal on or before March 25, 2005.

On February 11, 2005, we received a request from Pete Downs of Kendall-Jackson Winery to extend the comment period for Notice No. 29. Mr. Downs requested the extension in order to study the proposal in greater depth.

In response to this request, we extend the comment period for Notice No. 29 an additional 60 days from the original closing date. Therefore, comments on Notice No. 29 are now due on or before May 25, 2005.

Drafting Information

Nancy Sutton of the Regulations and Procedures Division drafted this notice.

List of Subjects in 27 CFR Part 9

Wine.

Authority and Issuance

This notice is issued under the authority in 27 U.S.C. 205.

Signed: February 25, 2005.
John J. Manfreda,
Administrator.

[FR Doc. 05-4483 Filed 3-7-05; 8:45 am]

BILLING CODE 4810-31-P